DEPARTMENT OF LABOR

Employment and Training Administration

Investigations Regarding Certifications of Eligibility To Apply for Worker Adjustment Assistant

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 18, 2004.

Interested persons are invited to submit written comments regarding the subject matter of the investigations to the Director, Division of Trade Adjustment Assistance, at the address shown below, not later than June 18, 2004.

The petitions filed in this case are available for inspection at the Office of the Director, Division of Trade Adjustment Assistance, Employment and Training Administration, U.S. Department of Labor, Room C-5311, 200 Constitution Avenue, NW., Washington, DC 20210.

Signed at Washington, DC, this 17th day of May, 2004.
Timothy Sullivan,
Director, Division of Trade Adjustment Assistance.

APPENDIX
[Petitions Instituted Between 05/03/2004 and 05/07/2004]
TA-W | Subject firm (petitioners) | Location | Date of institution | Date of petition
54,831 | Neese Industries (LA) | Gonzales, LA | 05/03/2004 | 04/23/2004
54,832 | Sun Microsystems (Wkrs) | Newark, CA | 05/03/2004 | 05/02/2004
54,833 | Bayer Clothing Group, Inc. (Comp) | Clearfield, PA | 05/03/2004 | 05/03/2004
54,834 | WesTan (Westfield Tanning) (WTEU) | Westfield, PA | 05/03/2004 | 04/27/2004
54,835 | IMS (Wkrs) | Georgetown, SC | 05/03/2004 | 04/30/2004
54,836 | Birdseye Foods, Inc. (Wkrs) | Fond Du Lac, WI | 05/03/2004 | 04/30/2004
54,837 | American Meter Company (Comp) | Calexico, CA | 05/04/2004 | 05/03/2004
54,838 | Swarovski North America, Ltd. (Comp) | Cranston, RI | 05/04/2004 | 04/20/2004
54,839 | Flextronics Int'l. (NJ) | Parsippany, NJ | 05/04/2004 | 05/03/2004
54,840 | Ivensys/Renco North America (Comp) | Plain City, OH | 05/04/2004 | 05/03/2004
54,841 | Elastic Corporation of America (Comp) | Asheboro, NC | 05/04/2004 | 04/30/2004
54,842 | Chicago Rawhide (Comp) | Franklin, NC | 05/05/2004 | 05/04/2004
54,843 | Trent Tube, A Div. of Crucible Materials (Comp) | Carrollton, GA | 05/05/2004 | 04/24/2004
54,844 | Kwikset (Comp) | Bristow, OK | 05/05/2004 | 04/29/2004
54,845 | Carhartt, Inc. (Comp) | Madisonville, KY | 05/05/2004 | 05/04/2004
54,846 | Our America Gift, Inc. (Comp) | Agawam, MA | 05/05/2004 | 05/04/2004
54,847 | Artex International, Inc. (Comp) | Highland, IL | 05/05/2004 | 04/30/2004
54,848 | Oshkosh B'Gosh, Inc. (Comp) | Oshkosh, WI | 05/05/2004 | 05/04/2004
54,849 | Minnesota Rubber (MN) | Minneapolis, MN | 05/05/2004 | 04/28/2004
54,850 | Burlington Industries (Wkrs) | New York, NY | 05/05/2004 | 04/30/2004
54,851 | Intex Corporation (Comp) | Pilot Mtn., NC | 05/05/2004 | 05/04/2004
54,852 | Danskin, Inc. (Comp) | Grenada, MS | 05/06/2004 | 04/23/2004
54,853 | Rockwell Automation (Wkrs) | Seattle, WA | 05/06/2004 | 05/05/2004
54,854 | Kentucky Apparel, LLP (Comp) | Tompkinsville, KY | 05/06/2004 | 04/28/2004
54,855 | Sara Lee Hosiery (Wkrs) | Rockingham, NC | 05/06/2004 | 04/29/2004
54,856 | EMI Group p/c (Wkrs) | Jacksonville, IL | 05/06/2004 | 05/05/2004
54,857 | Valley Mills (AL) | Valley Head, AL | 05/06/2004 | 04/30/2004
54,858 | Hope Valley Dyeing Corp. (Comp) | West Warwick, RI | 05/06/2004 | 05/04/2004
54,859 | Artistic Laces, Inc. (Comp) | Warwick, RI | 05/06/2004 | 05/04/2004
54,860 | American Express (Wkrs) | Phoenix, AZ | 05/06/2004 | 04/27/2004
54,861 | J.S. Technos (Wkrs) | Russellville, KY | 05/06/2004 | 05/03/2004
54,862 | Irwin Industrial Tool Co. (Comp) | Wilmington, OH | 05/06/2004 | 05/05/2004
54,863 | Ethan Allen, Inc. (Comp) | Boonville, NY | 05/07/2004 | 04/29/2004
54,864 | Cullman Apparel Mfg. Co., Inc. (Comp) | Cullman, AL | 05/07/2004 | 05/06/2004
54,865 | H.E. Services (Wkrs) | Flint, MI | 05/07/2004 | 04/26/2004
54,866 | National Textiles, LLC (NC) | China Grove, NC | 05/10/2004 | 05/07/2004
54,867 | Pennsylvania Resources Corp. (Wkrs) | Dunmore, PA | 05/10/2004 | 05/05/2004
54,868 | R and W Manufacturing, Inc. (Comp) | Avena, GA | 05/10/2004 | 05/06/2004
54,869 | GearBuck Aviation Maintenance (AR) | Blytheville, AR | 05/10/2004 | 05/06/2004
54,870 | J and L Specialty Steel, LLC (Comp) | Moon Township, PA | 05/10/2004 | 05/07/2004
54,871 | DeVlieg Bullard II, Inc. (UAW) | Frankenmuth, MI | 05/10/2004 | 05/05/2004
54,872 | Sanmina-SCI Corporation (Wkrs) | Salem, NH | 05/10/2004 | 04/30/2004
54,873 | Keane, Inc. (Wkrs) | Moosic, PA | 05/10/2004 | 05/06/2004
54,874 | Santa's Best (Comp) | Vineland, NJ | 05/10/2004 | 04/30/2004
54,875 | Thomson, Inc. (NPC) | Dunmore, PA | 05/10/2004 | 05/06/2004
54,876 | Amcor PET Packaging (Wkrs) | Erie, PA | 05/10/2004 | 05/07/2004
54,877 | Steele Mfg. A Div. of Calhoun Appl. (Comp) | Water Valley, MS | 05/10/2004 | 05/07/2004
54,878 | Smurfit Stone Container Corp. (Wkrs) | Anderson, IN | 05/11/2004 | 04/29/2004
54,879 | Vesuvius USA (USWA) | Buffalo, NY | 05/11/2004 | 05/03/2004
54,880 | Wehadkee Yarn Mills (Comp) | Rock Mills, AL | 05/11/2004 | 05/05/2004
54,881 | Bradford Soap Works, Inc. (Comp) | W. Warwick, RI | 05/11/2004 | 05/10/2004
54,882 | Intek (Wkrs) | Aberdeen, NC | 05/11/2004 | 05/05/2004
54,883 | Westpoint Stevens (Comp) | Drakes Branch, VA | 05/11/2004 | 04/28/2004
54,884 | American Airlines (Wkrs) | Las Vegas, NV | 05/11/2004 | 05/03/2004
54,885 | Dekko Technology (Wkrs) | Claypool, IN | 05/11/2004 | 05/03/2004
54,886 | Geron Furniture/Legett and Platt (Comp) | Carson, CA | 05/11/2004 | 05/07/2004
54,887 | Eaton Aerospace (FL) | Sarasota, FL | 05/11/2004 | 05/03/2004
54,888 | Cooper Power Systems (Comp) | Pewaukee, WI | 05/11/2004 | 05/10/2004
54,889 | 3M (MN) | St. Paul, MN | 05/11/2004 | 05/10/2004
54,890 | Inamed Corp. (Comp) | Santa Barbara, CA | 05/11/2004 | 05/04/2004
54,891 | Johnson Diversey, Inc. (Wkrs) | Sharonville, OH | 05/11/2004 | 04/30/2004
54,892 | Information Resources, Inc. (IRI) (Wkrs) | Chicago, IL | 05/11/2004 | 05/09/2004
54,893 | Northwest Composites (Wkrs) | Marysville, WA | 05/11/2004 | 05/04/2004
54,894 | Royce Hosiery (Wkrs) | Martinsburg, WV | 05/12/2004 | 05/11/2004
54,895 | Armin Tool and Mfg. Company (Comp) | S. Elgin, IL | 05/12/2004 | 05/06/2004
54,896 | Phillips Plastics (Comp) | Eau Claire, WI | 05/12/2004 | 05/03/2004
54,897 | Tidewater Occupational Center (Comp) | Suffolk, VA | 05/12/2004 | 05/05/2004
54,898 | Ogden Manufacturing, Inc. (Comp) | Albany, WI | 05/12/2004 | 05/04/2004
54,899 | Zilog, Inc. (Comp) | Nampa, ID | 05/12/2004 | 05/10/2004
54,900 | G and F Industries (MA) | Sturbridge, MA | 05/12/2004 | 05/12/2004
54,901 | Springfield Plastics (Comp) | E. Springfield, PA | 05/12/2004 | 05/11/2004
54,902 | Solutia, Inc. (IL) | Sauget, IL | 05/12/2004 | 05/11/2004
54,903 | Nortel Networks (Wkrs) | RTP, NC | 05/12/2004 | 04/29/2004
54,904 | Envirco Corp. (Wkrs) | Albuquerque, NM | 05/12/2004 | 04/27/2004
54,905 | Compucom Systems, Inc. (NPW) | Dallas, TX | 05/12/2004 | 05/11/2004
54,906 | W.H. Stewart Co. (Comp) | Oklahoma City, OK | 05/12/2004 | 05/08/2004
54,907 | Ponsleep Products (Comp) | Compton, CA | 05/13/2004 | 05/06/2004
54,908 | In Gear Fashion, Inc. (FL) | Miami, FL | 05/13/2004 | 05/12/2004
54,909 | Atlantic Salmon of Maine (Wkrs) | Machias Port, ME | 05/13/2004 | 05/04/2004
54,910 | Earthlink (Wkrs) | Harrisburg, PA | 05/13/2004 | 04/20/2004
54,911 | Keller Manufacturing Co., Inc. (The) (Comp) | New Salisbury, IN | 05/13/2004 | 05/12/2004
54,912 | DeRoyal Industries, Inc. (Wkrs) | Dryden, VA | 05/13/2004 | 04/26/2004
54,913 | Travelocity.com (Comp) | San Antonio, TX | 05/14/2004 | 05/10/2004

[FR Doc. 04-12868 Filed 6-7-04; 8:45 am]

BILLING CODE 4510-30-M